DEPARTMENT OF DEFENSE

Department of the Army, Corps of Engineers

Notice of Cancellation of Intent To Prepare a Draft Environmental Impact Statement for Expansion of the Tampa Harbor (Hilisborough County) FL

AGENCY: U.S. Army Corps of Engineers, DoD.

ACTION: Cancellation of Notice of Intent.

SUMMARY: The Jacksonville District, U.S. Army Corps of Engineers hereby cancels its Notice of Intent to prepare a Draft Environmental Impact Statement as published in FR, Vol. 66, No. 105, Pages 29557 and 29558, May 31, 2001.

FOR FURTHER INFORMATION CONTACT: Eric K. Gasch, (904) 232-3140, Environmental Branch, Planning Division, P.O. Box 4970, Jacksonville, FL 32232-0019.

SUPPLEMENTARY INFORMATION: The reason for this action is that project alternatives have been eliminated which proposed substantial environmental impacts. Alternatives that were eliminated include the creation of a secondary channel loop anchorage area. The project will still consider alternatives which widen and provide depth at the existing channels. These alternatives are not expected to have more than minimal impact on seagrass, hard bottoms, wetlands or other natural resources.

Dated: March 12, 2008.
Rebecca S. Griffith,
Chief, Planning Division.

[FR Doc. E8-6370 Filed 3-28-08; 8:45 am]

BILLING CODE 3710-AJ-M